DEPARTMENT OF EDUCATION

[CFDA No. 84.170A]

Office of Postsecondary Education; Jacob K. Javits Fellowship Program; Notice Inviting Applications for New Awards for Fiscal Year (FY) 2003

Purpose of Program: The purpose of the Jacob K. Javits Fellowship (JKJ) Program is to award fellowships to eligible students of superior ability, selected on the basis of demonstrated achievement, financial need, and exceptional promise to undertake graduate study in selected fields in the arts, humanities, and social sciences leading to a doctoral degree, or to a master's degree in those fields in which the master's degree is the terminal highest degree awarded in the selected field of study at accredited institutions of higher education. The selected fields in the arts are: Creative writing, music performance, music theory, music composition, music literature, studio arts (including photography), television, film, cinematography, theater arts, playwriting, screenwriting, acting, and dance. The selected fields in the humanities are: Art history (including architectural history), archeology, area studies, classics, comparative literature, English language and literature, folklore, folklife, foreign languages and literature, history, linguistics, philosophy, religion, speech, rhetoric, and debate. The selected fields in the social sciences are: Anthropology, communications and media, economics, ethnic and cultural studies, geography, political science, psychology (excluding clinical psychology), public policy and public administration, and sociology (excluding the master's and doctoral degrees in social work).

Eligible Applicants: Individuals who at the time of application: Intend to pursue, at accredited U.S. institutions of higher education in academic year 2003-2004, doctoral or master's degrees (if the master's degree is the terminal highest degree awarded) in fields selected by the JKJ Board; have not completed their first full year of study for doctoral or master's degrees in the fields for which the individuals are applying; and are eligible to receive grants, loans, or work assistance pursuant to section 484 of the Higher Education Act, as amended. An individual must be a citizen or national of the United States, a permanent resident of the United States, in the United States for other than a temporary purpose and intending to become a permanent resident, or a citizen of any one of the Freely Associated States.

Note: An individual who has had a JKJ Fellowship in any field of study is ineligible.

Applications Available: October 11, 2002.

Deadline for Transmittal of Applications: December 11, 2002 for the JKJ Program. January 31, 2003 for the Free Application for Federal Student Aid.

Estimated Available Funds: $10,000,000.

Estimated Average Size of Awards: $36,000.

Estimated Number of Awards: 107 individual fellowships.

Note: The Department is not bound by any estimates in this notice.

Project Period: Up to 48 months.

Applicable Regulations: (a) The Education Department General Administrative Regulations (EDGAR) in 34 CFR parts 74, 75 (except as provided in 34 CFR 650.3(b)), 77, 82, 85, 86, 97, 98 and 99; and (b) The regulations for this program in 34 CFR part 650.

SUPPLEMENTARY INFORMATION: Stipend Level: The Secretary will determine the JKJ fellowship stipend for the academic year 2003-2004 based on the level of support provided by the National Science Foundation (NSF) graduate fellowships as of February 1, 2003, except that the amount will be adjusted as necessary so as not to exceed the JKJ fellow's demonstrated level of financial need.

Institutional Payment: The Secretary will determine the institutional payment for the 2003-2004 academic year by adjusting the previous academic year institutional payment, which is $11,031 per fellow, by the U.S. Department of Labor's Consumer Price Index for the 2002 calendar year. The institutional payment will be reduced by the tuition and fees the institution charges and collects from a JKJ fellow.

Instructions for Transmittal of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project For Electronic Submission of Applications

In FY 2003, the U.S. Department of Education is continuing to expand its pilot project of electronic submission of applications to include additional formula grant programs and additional discretionary grant competitions. The JKJ Program—CFDA No. 84.170A is one of the programs included in the pilot project. If you are an applicant under the JKJ Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit the Applicant Information Sheet and Personal Statement electronically, however, you must submit all other application materials in hardcopy, including your letters of recommendation, transcripts, GRE report (if required for your field of study), and supporting materials in the arts.

• Within three working days of submitting your electronic application fax a signed copy of the Applicant Information Sheet to the Application Control Center after following these steps:

1. Print the Applicant Information Sheet from the e-APPLICATION system.

2. Make sure that you sign this form.

3. Before faxing this form, submit your electronic application via the e-APPLICATION system. You will receive an automatic acknowledgement, which will include a PR/Award number (an identifying number unique to your application).

4. Place the PR/Award number in the upper right hand corner of Applicant Information Sheet.

5. Fax the Applicant Information Sheet to the Application Control Center at (202) 260-1349.

You may access the electronic grant application for the JKJ Program at: http://e-grants.ed.gov.

We have included additional information about the e-APPLICATION pilot project (see Parity Guidelines between Paper and Electronic Applications) in the application package.

For Applications Contact: Federal Student Aid Information Center, P.O. Box 84, Washington DC 20044-0084. Telephone (toll free): 1-800-433-3243, FAX: (319) 358-4316. The application may also be accessed on the JKJ Web site: http://www.ed.gov/offices/OPE/HEP/iegps/javits.html.

If you use a telecommunications device for the deaf (TDD), you may call the TDD number at 1-800-730-8913.

FOR FURTHER INFORMATION CONTACT: Carolyn Proctor, Jacob K. Javits Fellowship Program, U.S. Department of Education, International Education and Graduate Programs Service, 1990 K St., NW., Suite 6000, Washington, DC 20006-8521. Telephone: (202) 502-7542 or via Internet: ope_javits_program@ed.gov.

If you use a telecommunications device for the deaf (TDD), you may call the Federal Information Relay Service (FIRS) at 1-800-877-8339.

Individuals with disabilities may obtain this document in an alternative format (e.g., Braille, large print, audiotape, or computer diskette) on request to the program contact person listed under For Further Information Contact.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1134-1134d.

Dated: October 8, 2002.
Sally L. Stroup,
Assistant Secretary, Office of Postsecondary Education.

[FR Doc. 02-26011 Filed 10-8-02; 3:02 pm]

BILLING CODE 4000-01-P